ENVIRONMENTAL PROTECTION AGENCY

[FRL-7912-8]

Establishment of a Federal Advisory Committee to Examine Detection and Quantitation Approaches in Clean Water Act Programs

AGENCY: Environmental Protection Agency (EPA).

ACTION: Notice; Establishment of FACA Committee and Meeting Announcement.

SUMMARY: As required by the Federal Advisory Committee Act, we are giving notice that the Environmental Protection Agency is establishing the Federal Advisory Committee on Detection and Quantitation Approaches and Uses in Clean Water Act Programs. The purpose of this Committee is to evaluate and recommend detection and quantitation procedures for use in EPA's analytical methods programs for compliance monitoring under 40 CFR part 136. The Committee will analyze and evaluate relevant scientific and statistical approaches, protocols, review data and interpretations of data using current and recommended approaches. The major objectives are to provide advice and recommendations to the EPA Administrator on policy issues related to detection and quantitation and scientific and technical aspects of procedures for detection and quantitation. We have determined that this is in the public interest and will assist the Agency in performing its duties under the Clean Water Act, as amended.

Copies of the Committee Charter will be filed with the appropriate committees of Congress and the Library of Congress.

FOR FURTHER INFORMATION CONTACT: Marion Kelly, Engineering and Analysis Division, MC4303T, Environmental Protection Agency, 1200 Pennsylvania Ave., NW., Washington, DC 20460; Telephone number: (202) 566-1045; Fax number: (202) 566-1053; e-mail address: Kelly.Marion@epa.gov.

SUPPLEMENTARY INFORMATION: In 1999, several industry groups filed suit against EPA (Alliance of Automobile Manufacturers v. EPA, DC Cir., No. 99-1420) as a result of EPA revisions of a test used to measure mercury concentrations at low levels, and in October, 2000, EPA entered into a Settlement Agreement that required EPA to assess and revise procedures to determine detection and quantitation limits under EPA's CWA programs by November 1, 2004.

On March 12, 2003, EPA published two notices in the Federal Register. One announced the availability of a Technical Support Document that described EPA's reassessment of detection and quantitation concepts and procedures (68 FR 11791), and the second proposed revisions to the MDL and ML definitions and procedures (68 FR 11770).

Many of the 126 comments EPA received in response to the Federal Register notices were critical of the assessment and proposed revisions. Rather than proceeding with the revisions, EPA decided to contract with a neutral third party to conduct a situation assessment to explore the feasibility and design of a stakeholder process. This decision was announced in a Federal Register notice dated September 15, 2004.

In October and November 2004, Triangle Associates, Inc. of Seattle, a neutral third party contractor, conducted the situation assessment through phone interviews with 37 representatives of Federal and State agencies, industry, environmental groups, municipal wastewater treatment plants, environmental laboratories, and organizations that establish testing methods and standards.

On November 8, 2004, EPA published a notice of document availability giving EPA's revised assessment of detection and quantitation concepts and procedures (69 FR 64704), and published a notice withdrawing the March 12, 2003, proposal (69 FR 64708). The withdrawal stated that a vast majority of commenters did not favor the proposed revisions, and that EPA planned to work with stakeholders to evaluate one or more of the approaches submitted in comments on the proposal.

As a result of the situation assessment, EPA agreed to establish a Federal Advisory Committee to obtain input from the stakeholder groups regarding detection and quantitation procedures and their use in the analytical methods in Clean Water Act programs. On December 29, 2004 (69 FR 77972), EPA published a notice announcing a public meeting on the Situation Assessment and to request nominations to the Federal Advisory Committee.

Participants: The Committee will be composed of approximately 20 members. As required by the Federal Advisory Committee Act, the FACDQ will be, balanced in terms of points of view represented and the scope of the activities of the Committee. A full-time EPA employee will act as the Designated Federal Official who will be responsible for providing the necessary staffing, operations, and support for the Committee. The committee members will be comprised of qualified senior-level professionals from diverse sectors throughout the United States from among, but not limited to, State government; environmental professionals; regulated industry; environmental laboratories; Publicly Owned Treatment Works; and the environmental community. Establishing a balanced membership with a diversity of policy experience, knowledge, and judgment, will be an important consideration in the selection of members. EPA also plans to use technical experts who will be available to provide technical assistance to the Committee. Such experts will not be members of the Committee and will not participate in the Committee's deliberations.

Dated: April 18, 2005.
Benjamin H. Grumbles,
Assistant Administrator for Water.

[FR Doc. 05-9718 Filed 5-12-05; 8:45 am]

BILLING CODE 6560-50-P